FEDERAL FINANCIAL INSTITUTIONS EXAMINATION COUNCIL

[Docket No. AS14-01]

Appraisal Subcommittee Notice of Meeting

AGENCY: Appraisal Subcommittee of the Federal Financial Institutions Examination Council.

ACTION: Notice of Meeting.

DESCRIPTION: In accordance with Section 1104 (b) of Title XI of the Financial Institutions Reform, Recovery, and Enforcement Act of 1989, as amended, notice is hereby given that the Appraisal Subcommittee (ASC) will meet in open session for its regular meeting:

Location: Federal Reserve Board—International Square location, 1850 K Street NW., Washington, DC 20006.

Date: February 12, 2014.

Time: 10:30 a.m.

Status: Open.

Chair Opening Remarks

Executive Director's Report

Delegated State Compliance Reviews

2013 Financial Report

Summary Agenda: December 11, 2013 minutes—Open Session.

(No substantive discussion of the above items is anticipated. These matters will be resolved with a single vote unless a member of the ASC requests that an item be moved to the discussion agenda.)

Discussion Agenda:

Compliance Review(s)

Revised ASC Rules of Operation

ASC Advisory Committee Balanced Membership Plan

How To Attend and Observe an ASC Meeting

If you plan to attend the meeting in person, we ask that you notify the Federal Reserve Board via email at appraisal-questions@frb.gov, requesting a return meeting registration email. The Federal Reserve Law Enforcement Unit will then send an email message with a web link where you may provide your date of birth and social security number through their encrypted system. You may register until close of business February 5, 2014. You will also be asked to provide identifying information, including a valid government-issued photo ID, before being admitted to the meeting. Alternatively, you can contact Kevin Wilson at 202-452-2362 for other registration options. The meeting space is intended to accommodate public attendees. However, if the space will not accommodate all requests, the ASC may refuse attendance on that reasonable basis. The use of any video or audio tape recording device, photographing device, or any other electronic or mechanical device designed for similar purposes is prohibited at ASC meetings.

Dated: January 30, 2014.
James R. Park,
Executive Director.

[FR Doc. 2014-02404 Filed 2-4-14; 8:45 am]

BILLING CODE P